DEPARTMENT OF TRANSPORTATION

Federal Aviation Administration

14 CFR Part 71

[Docket No. FAA-2018-0686; Airspace Docket No. 18-ANM-10]

RIN 2120-AA66

Amendment of Class D and Class E Airspace, and Establishment of Class E Airspace; Spokane, WA

AGENCY: Federal Aviation Administration (FAA), DOT.

ACTION: Final rule.

SUMMARY: This action modifies Class D airspace, Class E surface area airspace, and establishes Class E airspace extending upward from 700 feet above the surface at Felts Field Airport, Spokane, WA. After a biennial review, the FAA found it necessary to amend existing airspace and establish new controlled airspace for the safety and management of Instrument Flight Rules (IFR) operations at this airport. This action makes a minor editorial change to the airspace designation and replaces the outdated term Airport/Facility Directory with the term Chart Supplement. The Class D and Class E surface areas are extended to the Spokane International Airport Class C surface area on the southwest and expanded 1.2 miles on the northeast. The Class E airspace extending upward from 700 feet above the surface is established to provide airspace for aircraft transitioning to and from Felts Field airport.

DATES: Effective 0901 UTC, January 30, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed on line at http://www.faa.gov/air_traffic/publications/. For further information, you can contact the Airspace Policy Group, Federal Aviation Administration, 800 Independence Avenue SW, Washington, DC, 20591 telephone: (202) 267-8783. The Order is also available for inspection at the National Archives and Records Administration (NARA). For information on the availability of FAA Order 7400.11C at NARA, email fedreg.legal@nara.gov or go to https://www.archives.gov/federal-register/cfr/ibr-locations.html.

FOR FURTHER INFORMATION CONTACT: Richard Roberts, Federal Aviation Administration, Western Service Center, Operations Support Group, 2200 S 216th Street, Des Moines, WA 98198; telephone (206) 231-2245.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and Class E surface area airspace and establishes Class E airspace extending upward from 700 feet above the earth at Felts Field, Spokane, WA, to support IFR operations at the airport.

History

The FAA published a notice of proposed rulemaking in the Federal Register (84 FR 29431; June 24, 2019) for Docket No. FAA-2018-0686 to modify Class D airspace and Class E surface area airspace and establish Class E airspace extending upward from 700 feet above the surface at Felts Field Airport, Spokane, WA. Interested parties were invited to participate in this rulemaking effort by submitting written comments on the proposal to the FAA. No comments were received.

Class D and Class E airspace designations are published in paragraph 5000, 6002, and 6005, respectively, of FAA Order 7400.11D, dated August 8, 2019 and effective September 15, 2019, which is incorporated by reference in 14 CFR 71.1. The Class D and Class E airspace designations listed in this document will be published subsequently in that Order. FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The FAA is amending Title 14 Code of Federal Regulations (14 CFR) part 71 by modifying Class D airspace, and Class E surface area airspace at Felts Field Airport, Spokane, WA, by expanding an area that will extend to the Spokane International Airport Class C surface area on the southwest and expanded 1.2 miles on the northeast; and Establishing Class E airspace extending upward from 700 feet above the surface within a 4-mile radius of Felts Field Airport, Spokane, WA, and within 1.8 miles each side of the 53° bearing from the airport extending from the 4-mile radius to 6.5 miles from the airport, and within 3.0 miles each side of the 75° bearing from the point in space at (lat. 47°37′46″ N, long. 117°26′30″ W), extending 12.6 miles from the point in space coordinates. After a biennial review of the airspace, the FAA found modification of the airspace necessary for the safety and management of aircraft departing and arriving under IFR operations at the airport.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 5000 Class D Airspace.

* * * * *

ANM WA D Spokane, WA [Amended]

Felts Field, WA

(Lat. 47°40′59″ N, long. 117°19′21″ W)

Felts Field, Point In Space Coordinates

(Lat. 47°39′08″ N, long. 117°18′46″ W)

Felts Field, Point In Space Coordinates

(Lat. 47°41′36″ N, long. 117°22′43″ W)

That airspace extending upward from the surface to and including 4,500 feet MSL within a 4-mile radius of Felts Field Airport and that airspace 1.2 miles each side of the 53° bearing from the airport extending from the 4-mile radius to 5.2 miles from the Felts Field airport, and that airspace from a line 1.5 miles northwest and parallel to a line along the 224° bearing from a point in space lat. 47°41′36″ N, long. 117°22′43″ W, to a line 2.1 miles south and parallel to a line along the 258° bearing from a point in space lat. 47°39′08″ N, long. 117°18′46″ W, extending from the Felts Field's 4-mile radius to 6.5 miles from the Felts Field Airport, excluding that airspace in the Spokane International Airport Class C surface area. This Class D airspace area is effective during the specific dates and times established in advance by a Notice to Airmen. The effective date and time will thereafter be continuously published in the Chart Supplement.

Paragraph 6002 Class E Airspace Designated as Surface Areas.

* * * * *

ANM WA E2 Spokane, WA [Amended]

Felts Field, WA

(Lat. 47°40′59″ N, long. 117°19′21″ W)

Felts Field, Point In Space Coordinates

(Lat. 47°39′08″ N, long. 117°18′46″ W)

Felts Field, Point In Space Coordinates

(Lat. 47°41′36″ N, long. 117°22′43″ W)

That airspace extending upward from the surface within a 4-mile radius of Felts Field Airport and that airspace 1.2 miles each side of the 53° bearing from the airport extending from the 4-mile radius to 5.2 miles from the Felts Field airport, and that airspace from a line 1.5 miles northwest and parallel to a line along the 224° bearing from a point in space lat. 47°41′36″ N, long. 117°22′43″ W, to a line 2.1 miles south and parallel to a line along the 258° bearing from a point in space lat. 47°39′08″ N, long. 117°18′46″ W, extending from the Felts Field's 4-mile radius to 6.5 miles from the Felts Field Airport, excluding that airspace in the Spokane International Airport Class C surface area. This Class D airspace area is effective during the specific dates and times established in advance by a Notice to Airmen. The effective date and time will thereafter be continuously published in the Chart Supplement.

Paragraph 6005 Class E Airspace Areas Extending Upward From 700 Feet or More Above the Surface of the Earth.

* * * * *

ANM WA E5 Spokane, WA [New]

Felts Field, WA

(Lat. 47°40′59″ N, long. 117°19′21″ W)

Felts Field, Point In Space Coordinates

(Lat. 47°37′46″ N, long. 117°26′30″ W)

That airspace extending upward from 700 feet above the ground within a 4-mile radius of Felts Field Airport, and that airspace 1.8 miles each side of the 53° bearing from the airport extending from the 4-mile radius to 6.5 miles from the Felts Field airport, and that airspace 3.0 miles each side of the 75° bearing from point in space at (Lat. 47°37′46″ N, long. 117°26′30″ W), extending 12.6 miles from the point in space, excluding that airspace in the Spokane International Airport Class C Airspace.

Issued in Seattle, Washington, November 4, 2019.
Shawn M. Kozica,
Manager, Operations Support Group, Western Service Center.

[FR Doc. 2019-24574 Filed 11-12-19; 8:45 am]

BILLING CODE 4910-13-P